DEPARTMENT OF THE INTERIOR

Bureau of Indian Affairs

[AAK30000000/145A2100DD/A0H501010.999900]

Renewal of Agency Information Collection for the Bureau of Indian Affairs Housing Improvement Program

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information for the BIA Housing Improvement Program authorized by OMB Control Number 1076-0084. This information collection expires October 31, 2014.

DATE: Submit comments on or before July 17, 2014.

ADDRESSES: You may submit comments on the information collection to Les Jensen, Bureau of Indian Affairs, 1849 C Street NW., Mail Stop 4513, Washington, DC 20240; facsimile: (907) 586-7044; email: Leslie.Jensen@bia.gov.

FOR FURTHER INFORMATION CONTACT: Les Jensen, telephone: (907) 586-7397.

SUPPLEMENTARY INFORMATION:

I. Abstract

The Bureau of Indian Affairs (BIA) is seeking renewal for the information collection conducted under 25 CFR part 256, Housing Improvement Program, to determine applicant eligibility for housing improvement program services and to determine priority order in which eligible applicants may receive the program services. Approval for this collection expires on October 31, 2014. The information collection includes an application form. No changes are being made to the form or to the approved burden hours for this information collection.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0084.

Title: Bureau of Indian Affairs Housing Improvement Program, 25 CFR 256.

Brief Description of Collection: Submission of this information allows BIA to determine applicant eligibility for housing services based upon the criteria referenced in 25 CFR 256.9 (repairs and renovation assistance) and 256.10 (replacement housing assistance). Enrolled members of federally recognized tribes, who live within a tribe's designated and approved service area, submit information on an application form. The information is collected on a BIA Form 6407, “Housing Assistance Application,” and includes:

A. Applicant Information including: Name, current address, telephone number, date of birth, social security number, tribe, roll number, reservation, marital status, name of spouse, date of birth of spouse, tribe of spouse, and roll number of spouse.

B. Family Information including: Name, date of birth, relationship to applicant, and tribe/roll number.

C. Income Information: Earned and unearned income.

D. Housing Information including: Location of the house to be repaired, constructed, or purchased; description of housing assistance for which applying; knowledge of receipt of prior Housing Improvement Program assistance, amount to whom and when; ownership or rental; availability of electricity and name of electric company; type of sewer system; water source; number of bathroom facilities.

E. Land Information including: Landowner; legal status of land; or type of interest in land.

F. General Information including: Prior receipt of services under the Housing Improvement Program and description of such; ownership of other housing and description of such; identification of Housing and Urban Development-funded house and current status of project; identification of other sources of housing assistance for which the applicant has applied and been denied assistance, if applying for a new housing unit or purchase of an existing standard unit; and advisement and description of any severe health problem, handicap or permanent disability.

G. Applicant Certification including: Signature of applicant and date, and signature of spouse and date.

A response is required to obtain a benefit.

Type of Review: Extension without change of currently approved collection.

Respondents: Individuals.

Number of Respondents: 8,000 per year, on average.

Total Number of Responses: 8,000 per year, on average.

Frequency of Response: Once.

Estimated Time per Response: 1 hour.

Estimated Total Annual Hour Burden: 8,000 hours.

Estimated Total Annual Cost: $0.

Dated: May 14, 2014.
John Ashley,
Acting Assistant Director for Information Resources.

[FR Doc. 2014-11545 Filed 5-16-14; 8:45 am]

BILLING CODE 4310-4J-P